DEPARTMENT OF TRANSPORTATION

Federal Aviation Administration

14 CFR Part 39

[Docket No. FAA-2022-1069; Project Identifier MCAI-2022-01175-T; Amendment 39-22174; AD 2022-19-05]

RIN 2120-AA64

Airworthiness Directives; Airbus SAS Airplanes

AGENCY: Federal Aviation Administration (FAA), DOT.

ACTION: Final rule; request for comments.

SUMMARY: The FAA is superseding Emergency Airworthiness Directive (AD) 2022-18-51, which applied to all Airbus SAS Model A330-841 and -941 airplanes. Emergency AD 2022-18-51 required revising the existing airplane flight manual (AFM) to incorporate additional limitations prohibiting takeoff for certain airplane configurations; specified airplane dispatch restrictions using certain provisions of the A330 master minimum equipment list (MMEL) or amending the existing FAA-approved operator's minimum equipment list (MEL); and required obtaining and accomplishing instructions following certain maintenance messages. Since the FAA issued Emergency AD 2022-18-51, additional instructions and maintenance procedures have been developed to address failures of the high pressure valve (HPV). This AD continues to require the actions specified in Emergency AD 2022-18-51, and also requires maintenance actions, including an HPV seal integrity test, repetitive replacement of the HPV clips, revision of the existing AFM, and implementation of updates to the FAA-approved operator's MEL, as specified in a European Union Aviation Safety Agency (EASA) AD, which is incorporated by reference. The FAA is issuing this AD to address the unsafe condition on these products.

DATES: This AD is effective September 15, 2022.

The Director of the Federal Register approved the incorporation by reference of a certain publication listed in this AD as of September 15, 2022.

The FAA must receive comments on this AD by October 24, 2022.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1069; or in person at Docket Operations between 9 a.m. and 5 p.m., Monday through Friday, except Federal holidays. The AD docket contains this AD, the mandatory continuing airworthiness information (MCAI), any comments received, and other information. The street address for Docket Operations is listed above.

Material Incorporated by Reference:

• For material incorporated by reference (IBR) in this AD, contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2022-1069.

FOR FURTHER INFORMATION CONTACT: Vladimir Ulyanov, Aerospace Engineer, Large Aircraft Section, FAA, International Validation Branch, 2200 South 216th St., Des Moines, WA 98198; telephone 206-231-3229; email Vladimir.Ulyanov@faa.gov.

SUPPLEMENTARY INFORMATION:

Comments Invited

The FAA invites you to send any written data, views, or arguments about this final rule. Send your comments to an address listed under ADDRESSES. Include “Docket No. FAA-2022-1069; Project Identifier MCAI-2022-01175-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Vladimir Ulyanov, Aerospace Engineer, Large Aircraft Section, FAA, International Validation Branch, 2200 South 216th St., Des Moines, WA 98198; telephone 206-231-3229; email Vladimir.Ulyanov@faa.gov. Any commentary that the FAA receives which is not specifically designated as CBI will be placed in the public docket for this rulemaking.

Background

On August 18, 2022, the FAA issued Emergency AD 2022-18-51 for all Airbus SAS Model A330-841 and -941 airplanes. Emergency AD 2022-18-51 was prompted by MCAI originated by EASA, which is the Technical Agent for the Member States of the European Union. EASA issued EASA Emergency AD 2022-0170-E, dated August 17, 2022 (EASA Emergency AD 2022-0170-E), to correct an unsafe condition identified as leaking bleed system HPVs, likely due to HPV clip failure and sealing ring damage.

Emergency AD 2022-18-51 required revising the existing AFM to incorporate additional limitations prohibiting takeoff for certain airplane configurations; specified airplane dispatch restrictions using certain provisions of the A330 MMEL or amending the existing FAA-approved operator's MEL; and required obtaining and accomplishing instructions following certain maintenance messages. The FAA issued Emergency AD 2022-18-51 to address a leaking HPV, which may expose the pressure regulating valve (PRV), which is installed downstream from the HPV, to high pressure, possibly damaging the PRV itself and preventing its closure. The unsafe condition, if not addressed, could result in high pressure and temperatures in the duct downstream from the PRV, with possible duct burst, damage to several systems, and consequent loss of control of the airplane.

Actions Since Emergency AD 2022-18-51 Was Issued

Since the FAA issued Emergency AD 2022-18-51, EASA superseded its Emergency AD 2022-0170-E and issued EASA AD 2022-0181, dated August 29, 2022 (EASA AD 2022-0181) (also referred to as the MCAI), to correct an unsafe condition for all Airbus SAS A330-841 and -941 airplanes. The MCAI states that Airbus has since published service information providing maintenance actions including repetitive replacement of the HPV clips and AFM and MMEL updates that provide additional instructions and maintenance procedures to address failures of the HPV.

You may examine the MCAI in the AD docket at regulations.gov under Docket No. FAA-2022-1069.

Explanation of Retained Requirements

Although this AD does not explicitly restate the requirements of Emergency AD 2022-18-51, this AD retains all of the requirements of Emergency AD 2022-18-51. Those requirements are referenced in EASA AD 2022-0181, which, in turn, is referenced in paragraph (g) of this AD.

Related Service Information Under 1 CFR Part 51

EASA AD 2022-0181 retains the following actions from EASA Emergency AD 2022-0170-E: revision of the existing AFM to incorporate limitations prohibiting takeoff for certain airplane configurations; airplane dispatch restrictions using certain provisions of the A330 MMEL or amendment of the existing FAA-approved operator's MEL; and actions following certain maintenance messages.

EASA AD 2022-0181 also specifies the following required actions:

• Revision of the Limitations section of the existing AFM to provide procedures to mitigate the risk of a non-isolated overpressure or overtemperature in the case of an excessive leak of the engine bleed HPV.

• Implementation of the instructions of the MMEL update on the basis of which the operator's MEL must be amended with new provisions and procedures for the following items: Air Conditioning Pack, Engine Bleed Air Supply System, Engine Bleed IP (Intermediate Pressure) Check Valve, and Engine Bleed HP Valve.

• A seal integrity test of each HPV, and corrective actions (including replacing the HPV, and a detailed inspection of the wing bellow on engine 1(2) and replacement of any damaged or deformed wing bellow).

EASA AD 2022-0181 also describes the following maintenance instructions to be accomplished following certain faults or failures:

• HPV troubleshooting procedure and additional maintenance actions after any Class 1 maintenance message associated to an HPV fault, and corrective actions (including replacing HPV or wing bellow).

• HPV seal integrity test and the additional maintenance actions after any Class 1 or Class 2 maintenance message associated to a PRV fault, and corrective actions (including replacing the HPV and PRV, and a detailed inspection of the wing bellow on engine 1(2) and replacement of any damaged or deformed wing bellow).

• A visual (borescope) inspection of the engine bleed air system (EBAS) to detect signs of foreign object debris (FOD), including metallic debris in the butterfly valve and dents or damage of the flaps of the intermediate pressure check valve (IPCV), and dents and missing segments in the PRV, the header of the high pressure/intermediate pressure (HP/IP) duct, the y-duct, and the pylon ducts after any failure of an HPV clip and/or any of the HPV butterfly sealing rings, and corrective actions (including removing FOD and replacing the IPCV or PRV).

• A seal integrity test of each HPV after any take-off or go-around accomplished with “packs OFF” or “APU bleed ON” or “engine bleed OFF,” and corrective actions (including replacing the HPV, and a detailed inspection of the wing bellow on engine 1(2) and replacement of any damaged or deformed wing bellow).

• Contacting Airbus for instructions after any HPV troubleshooting procedure if any Class 1 maintenance message occurs associated with an HPV fault.

• Initial and repetitive replacement of each HPV clip with a new HPV clip.

• Reporting to Airbus of any failure detected during the accomplishment of any maintenance action, seal integrity test, or visual inspection specified in EASA AD 2022-0181.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI described above. The FAA is issuing this AD after determining that the unsafe condition described previously is likely to exist or develop on other products of the same type design.

Requirements of This AD

This AD requires accomplishing the actions specified in EASA AD 2022-0181 described previously, except for any differences identified as exceptions in the regulatory text of this AD, and except as discussed under “Differences Between this AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2022-0181 is incorporated by reference in this AD. This AD requires compliance with EASA AD 2022-0181 through that incorporation, except for any differences identified as exceptions in the regulatory text of this AD. Using common terms that are the same as the heading of a particular section in EASA AD 2022-0181 does not mean that operators need comply only with that section. For example, where the AD requirement refers to “all required actions and compliance times,” compliance with this AD requirement is not limited to the section titled “Required Action(s) and Compliance Time(s)” in EASA AD 2022-0181. Service information required by EASA AD 2022-0181 for compliance will be available at regulations.gov under Docket No. FAA-2022-1069 after this AD is published.

Differences Between This AD and the MCAI

EASA AD 2022-0181 requires operators to inform all flightcrews of revisions to the existing AFM and MEL, and thereafter to operate the airplane accordingly. However, this AD does not specifically require those actions, as those actions are already required by FAA regulations. FAA regulations require operators to furnish to pilots any changes to the AFM (for example, 14 CFR 121.137), and to ensure the pilots are familiar with the AFM (for example, 14 CFR 91.505). As with any other flightcrew training requirement, training on the updated AFM content is tracked by the operators and recorded in each pilot's training record, which is available for the FAA to review. FAA regulations also require pilots to follow the procedures in the AFM including all updates. 14 CFR 91.9 requires that any person operating a civil aircraft must comply with the operating limitations specified in the AFM. Furthermore, FAA regulations (14 CFR 121.628(a)(2)) require operators to provide pilots with access to all of the information contained in the operator's MEL. Furthermore, 14 CFR 121.628(a)(5) requires airplanes to be operated under all applicable conditions and limitations contained in the operator's MEL. Therefore, including a requirement in this AD to operate the airplane according to the revised AFM and MEL would be redundant and unnecessary.

Paragraph (2) of EASA AD 2022-0181 prohibits the dispatch of an airplane under specified provisions of the A330 MMEL items. This AD alternatively allows revising the operator's existing FAA-approved MEL by removing the items specified in paragraph (2) of EASA AD 2022-0181.

Interim Action

The FAA considers that this AD is an interim action. The FAA anticipates that further AD action will follow.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because a leaking HPV may expose the PRV to high pressure, possibly damaging the PRV itself and preventing its closure, which could lead to high pressure and temperatures in the duct downstream from the PRV, with possible duct burst, damage to several systems, and consequent loss of control of the airplane. The FAA considers a leaking HPV to be an urgent safety issue. The actions retained from the emergency AD must be performed before further flight; however, these actions on their own do not fully mitigate the unsafe condition. The new actions required by this AD will further mitigate the unsafe condition, and certain actions are required for compliance before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 15 airplanes of U.S. registry. The FAA estimates the following costs to comply with this AD:

Estimated Costs for Required Actions
Action | Labor cost | Parts cost | Cost per product | Cost on U.S. operators
Retained actions from Emergency AD 2022-18-51 | 2 work-hours × $85 per hour = $170 | $0 | $170 | $2,550.
New one-time actions | 15 work-hours × $85 per hour = $1,275 | 0 | 1,275 | $19,125.
HPV clip replacement | 1 work-hour × $85 per hour = $85 | 28 | 113 | $1,695, per replacement cycle.

The FAA estimates the following costs to do any necessary on-condition actions that would be required based on the results of any required or optional actions. The FAA has no way of determining the number of aircraft that might need these on-condition actions:

Estimated Costs of On-Condition Actions
Action | Labor cost | Parts cost | Cost per product
HPV replacement | 4 work-hours × $85 per hour = $340 | $96,885 | $97,225
Wing bellow replacement | 6 work-hours × $85 per hour = $510 | 9,950 | 10,460
HPV seal integrity test | 1 work hour × $85 per hour = $85 | 0 | 85

The FAA has no definitive data on which to base the cost estimate for the maintenance actions or additional actions specified in this AD.

The FAA estimates that it would take about 1 work-hour per product to comply with the on-condition reporting requirement in this AD. The average labor rate is $85 per hour. Based on these figures, the FAA estimates the cost of reporting discrepancies on U.S. operators to be $85 per product, per incident.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2022-19-05 Airbus SAS: Amendment 39-22174; Docket No. FAA-2022-1069; Project Identifier MCAI-2022-01175-T.

(a) Effective Date

This airworthiness directive (AD) is effective September 15, 2022.

(b) Affected ADs

This AD replaces Emergency AD 2022-18-51, Project Identifier MCAI-2022-01125-T, dated August 18, 2022.

(c) Applicability

This AD applies to all Airbus SAS Model A330-841 and -941 airplanes, certificated in any category.

(d) Subject

Air Transport Association (ATA) of America Codes 75, Air.

(e) Unsafe Condition

This AD was prompted by reports of leaking bleed system high pressure valves (HPVs), likely due to HPV clip failure and sealing ring damage, and by the development of additional instructions and maintenance procedures to address HPV failures. The FAA is issuing this AD to address a leaking HPV, which may expose the pressure regulating valve (PRV), which is installed downstream from the HPV, to high pressure, possibly damaging the PRV itself and preventing its closure. The unsafe condition, if not addressed, could result in high pressure and temperatures in the duct downstream from the PRV, with possible duct burst, damage to several systems, and consequent loss of control of the airplane.

(f) Compliance

Comply with this AD within the compliance times specified, unless already done.

(g) Requirements

Except as specified in paragraph (h) of this AD: Comply with all required actions and compliance times specified in, and in accordance with, European Union Aviation Safety Agency (EASA) AD 2022-0181, dated August 29, 2022 (EASA AD 2022-0181).

(h) Exceptions to EASA AD 2022-0181

(1) Where EASA AD 2022-0181 refers to “18 August 2022 [the effective date of EASA AD 2022-0170-E],” this AD requires using “August 19, 2022.”

(2) Where EASA AD 2022-0181 refers to its effective date, this AD requires using the effective date of this AD.

(3) Where paragraphs (1), (2), (4), and (7) of EASA AD 2022-0181 specify to inform all flightcrews of airplane flight manual (AFM) revisions and dispatch limitations, and thereafter to operate the airplane accordingly, this AD does not require those actions, as those actions are already required by existing FAA regulations.

(4) Where paragraph (2) of EASA AD 2022-0181 prohibits the dispatch of an airplane under specified provisions of the A330 master minimum equipment list (MMEL) items, this AD alternatively allows revising the operator's existing FAA-approved minimum equipment list (MEL) by removing the items specified in paragraph (2) of EASA AD 2022-0181, if accomplished before further flight as of August 19, 2022, as specified in FAA Emergency AD 2022-18-51.

(5) The “Remarks” section of EASA AD 2022-0181 does not apply to this AD.

(i) Special Flight Permit

Special flight permits may be issued in accordance with 14 CFR 21.197 and 21.199 to operate the airplane to a location where the actions required by this AD may be accomplished, provided the requirements of paragraphs (1) and (2) of EASA AD 2022-0181 are first accomplished.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information referenced in EASA AD 2022-0181 that contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Vladimir Ulyanov, Aerospace Engineer, Large Aircraft Section, FAA, International Validation Branch, 2200 South 216th St., Des Moines, WA 98198; telephone 206-231-3229; email Vladimir.Ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0181, dated August 29, 2022.

(ii) [Reserved]

(3) For EASA AD 2022-0181, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195. This material may be found in the AD docket at regulations.gov under Docket No. FAA-2022-1069.

(5) You may view this material that is incorporated by reference at the National Archives and Records Administration (NARA). For information on the availability of this material at NARA, email fr.inspection@nara.gov, or go to: www.archives.gov/federal-register/cfr/ibr-locations.html.

Issued on September 1, 2022.
Christina Underwood,
Acting Director, Compliance & Airworthiness Division, Aircraft Certification Service.

[FR Doc. 2022-19459 Filed 9-6-22; 11:15 am]

BILLING CODE 4910-13-P